DEPARTMENT OF TRANSPORTATION

Federal Aviation Administration

Notice of Cancellation of Environmental Impact Statement for the Norfolk International Airport, Norfolk, Virginia

AGENCY: Federal Aviation Administration (FAA), DOT.

ACTION: Notice of cancellation of preparation of environmental impact statement.

SUMMARY: The Federal Aviation Administration (FAA) announces that it has discontinued preparation of an Environmental Impact Statement (EIS) for the proposed construction of new Runway 5R/23L and associated development at Norfolk International Airport, Norfolk, Virginia. The FAA's discontinued preparation of the EIS is based upon the length of time that has elapsed since the issuance of the Notice of Intent (NOI) in 2001 for the project and the need to consider results from additional planning efforts completed by the Norfolk Airport Authority (NAA), the owner and operator of the airport. The additional planning effort by NAA has modified the project purpose and need and refined various project elements, including the need to relocate the Very High Frequency Omni-directional Range/Tactical Air Navigation (VORTAC) facility. As a result of the additional planning studies, refinements to the project scope, and the time elapsed; the FAA has decided to discontinue the EIS as proposed in the NOI from 2001.

FOR FURTHER INFORMATION CONTACT: Andrew Brooks, Environmental Program Manager, Airports Division AEA-610, Federal Aviation Administration, Eastern Region, 1 Aviation Plaza, Jamaica, New York 11434; Telephone (718) 553-2511.

SUPPLEMENTARY INFORMATION: On June 28, 2001, the FAA, published in the Federal Register a Notice of Intent (NOI) to prepare an Environmental Impact Statement (EIS) and hold a Public Scoping Meeting at Norfolk International Airport (Volume 66, Number 125, FR 34508-34509). The EIS and Public Scoping Meeting were to address the proposed construction of new Runway 5R/23L and associated development at the airport, including new taxiway construction, taxiway relocation, runway safety area construction, new airfield lighting, improvements to existing lighting, relocation of the VORTAC facility, installation of a Medium Intensity Approach Lighting System with Runway Alignment Indicator Lights (MALSR) for the new Runway 23L, and a Category II Instrument Landing MALSR for new Runway 5R.

In 2001, the FAA based its decision to prepare the EIS on the procedures described in FAA Order 5050.4A, Airport Environmental Handbook, and FAA Order 1050.1D, Policies and Procedures for Considering Environmental Impacts. FAA also based its decision to prepare a federal EIS primarily on NAA's proposal to construct a new Runway 5R/23L in parallel to the existing Runway 5/23, which would be re-designated as Runway 5L/23R. The new runway was proposed to be 8,000 feet long and 150 feet wide and would have a runway centerline separation from the existing runway of 845 feet.

Subsequently, NAA completed supplemental planning efforts that necessitated making changes to the proposed project's purpose and need. Therefore, the proposed project's purpose and need has recently been revised and various project components, including the relocation of the VORTAC, are no longer required. The NAA submitted an Airport Layout Plan revision to the FAA that depicted the refined project elements. The Airport Layout Plan was conditionally approved, subject to environmental review by the FAA on October 5, 2011. The FAA will determine the appropriate National Environmental Policy Act (NEPA) documentation necessary to assess the environmental effects of the proposed improvements pursuant to FAA Order 5050.4B, National Environmental Policy Act (NEPA) Implementing Instructions for Airport Actions, and FAA Order 1050.1E, Environmental Impacts: Policies and Procedures.

Issued in Jamaica, New York, on December 5, 2013.
Debbie Roth,
Manager, Airports Division, Eastern Region, AEA-600.

[FR Doc. 2013-29981 Filed 12-16-13; 8:45 am]

BILLING CODE 4910-13-P